DEPARTMENT OF THE INTERIOR

National Park Service

[NPS-WASO-NAGPRA-11158; 2200-1100-665]

Notice of Inventory Completion: U.S. Department of the Interior, National Park Service, Wupatki National Monument, Flagstaff, AZ

AGENCY: National Park Service, Interior.

ACTION: Notice.

SUMMARY: The U.S. Department of the Interior, National Park Service, Wupatki National Monument, has completed an inventory of human remains and associated funerary objects, in consultation with the appropriate Indian tribes, and has determined that there is no cultural affiliation between the remains and any present-day tribe. Representatives of any Indian tribe that believes itself to be culturally affiliated with the human remains may contact Wupatki National Monument. Disposition of the human remains and associated funerary objects to the tribes stated below may occur if no additional requestors come forward.

DATES: Representatives of any Indian tribe that believes it has a cultural affiliation with the human remains should contact Wupatki National Monument at the address below by October 29, 2012.

ADDRESSES: Diane Chung, Superintendent, Wupatki National Monument, 6400 N. Hwy 89, Flagstaff, AZ 86004, telephone (928) 526-1157 ext. 227.

SUPPLEMENTARY INFORMATION: Notice is here given in accordance with the Native American Graves Protection and Repatriation Act (NAGPRA), 25 U.S.C. 3003, of the completion of an inventory of human remains and associated funerary objects in the control of the U.S. Department of the Interior, National Park Service, Wupatki National Monument, Flagstaff, AZ and in the physical custody of the Museum of Northern Arizona, Flagstaff, AZ. The human remains and associated funerary objects were removed from within the boundaries of Wupatki National Monument in Coconino County, AZ.

This notice is published as part of the National Park Service's administrative responsibilities under NAGPRA, 25 U.S.C. 3003(d)(3) and 43 CFR 10.11(d). The determinations in this notice are the sole responsibility of the Superintendent, Wupatki National Monument.

Consultation

A detailed assessment of the human remains was made by Wupatki National Monument professional staff in consultation with representatives of the Fort McDowell Yavapai Nation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Kewa Pueblo, New Mexico (formerly the Pueblo of Santo Domingo); Mescalero Apache Tribe of the Mescalero Reservation, New Mexico; Navajo Nation, Arizona, New Mexico & Utah; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; Yavapai-Prescott Tribe of the Yavapai Reservation, Arizona; Ysleta del Sur Pueblo of Texas; and Zuni Tribe of the Zuni Reservation, New Mexico. The Pueblo of San Felipe, New Mexico, was contacted, but did not have an internal process to address the issue of repatriation. Hereafter, all tribes listed above are referred to as “The Tribes.”

History and Description of the Remains

In 1932, human remains representing a minimum of one individual were removed from NA2103 in Coconino County, AZ during an authorized surface collection by the Museum of Northern Arizona. The site is a masonry room built within a basalt rock enclosure and is dated to A.D. 1050-1300 based on sherds and lithics collected from the surface. No known individuals were identified. No associated funerary objects are present.

In 1948, human remains representing a minimum of three individuals were removed from NA618 in Coconino County, AZ in an authorized excavation by the Museum of Northern Arizona. The site is a pueblo dated to A.D. 900-1300 based on architecture and ceramics. No known individuals were identified. The four associated funerary objects are Tusayan Black-on-White Kayenta variety sherds.

In the 1950s, human remains representing a minimum of 12 individuals were removed from NA638 in Coconino County, AZ, by National Park Service personnel. The site can no longer be located, but is described as a two- to three-room stone house. No known individuals were identified. No associated funerary objects are present.

In 1973, human remains representing a minimum of one individual were removed from NA12512 in Coconino County, AZ in an authorized emergency excavation by the Museum of Northern Arizona. The site dates to A.D. 1130-1250 based on ceramics. No known individuals were identified. The 159 associated funerary objects are 140 sherds, 14 flakes, 2 unworked animal bones, 1 bag of animal bones, 1 piece of hematite, and 1 worked animal bone.

Wupatki National Monument has determined that there is not sufficient evidence to support a cultural affiliation determination for the human remains described above.

Determinations Made by Wupatki National Monument

Officials of Wupatki National Monument have determined that:

• Based on osteological analysis, the human remains are Native American.

• Pursuant to 25 U.S.C. 3001(2), a relationship of shared group identity cannot be reasonably traced between the Native American human remains and any present-day Indian tribe.

• According to final judgments of the Indian Claims Commission, the land from which the Native American human remains and associated funerary objects were removed is the aboriginal land of the Fort McDowell Yavapai Nation, Arizona; Havasupai Tribe of the Havasupai Reservation, Arizona; Hopi Tribe of Arizona; Hualapai Indian Tribe of the Hualapai Indian Reservation, Arizona; Kaibab Band of Paiute Indians of the Kaibab Indian Reservation, Arizona; Navajo Nation, Arizona, New Mexico & Utah; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; and Yavapai-Prescott Tribe of the Yavapai Reservation, Arizona.

• Multiple lines of evidence, including treaties, Acts of Congress, and Executive Orders, indicate that the land from which the Native American human remains and associated funerary objects were removed is the aboriginal land of the Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Mescalero Apache Tribe of the Mescalero Reservation, New Mexico; Navajo Nation, Arizona, New Mexico & Utah; San Carlos Apache Tribe of the San Carlos Reservation, Arizona; San Juan Southern Paiute Tribe of Arizona; Tonto Apache Tribe of Arizona; and White Mountain Apache Tribe of the Fort Apache Reservation, Arizona.

• Other credible lines of evidence, including consultation with tribal representatives, indicate that the land from which the Native American human remains and associated funerary objects were removed is the aboriginal land of the Zuni Tribe of the Zuni Reservation, New Mexico.

• Pursuant to 25 U.S.C. 3001(9), the human remains described in this notice represent the physical remains of 17 individuals of Native American ancestry.

• Pursuant to 25 U.S.C. 3001(3)(A), the 163 objects described above are reasonably believed to have been placed with or near individual human remains at the time of death or later as part of the death rite or ceremony. The National Park Service intends to convey the associated funerary object to the tribes pursuant to 16 U.S.C. 18f-2.

• Pursuant to 43 CFR 10.11(c)(1), the disposition of the human remains may be to the Fort McDowell Yavapai Nation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Mescalero Apache Tribe of the Mescalero Reservation, New Mexico; Navajo Nation, Arizona, New Mexico & Utah; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; Yavapai-Prescott Tribe of the Yavapai Reservation, Arizona; and Zuni Tribe of the Zuni Reservation, New Mexico.

Additional Requestors and Disposition

Representatives of any Indian tribe that believes itself to be culturally affiliated with the human remains or any other Indian tribe that believes it satisfies the criteria in 43 CFR 10.11(c)(1) should contact Diane Chung, Superintendent, Wupatki National Monument, 6400 N. Hwy 89, Flagstaff, AZ 86004, telephone (928) 526-1157 ext. 227, before October 29, 2012. Disposition of the human remains to the Fort McDowell Yavapai Nation, Arizona; Havasupai Tribe of the Havasupai Reservation, Arizona; Hopi Tribe of Arizona; Hualapai Indian Tribe of the Hualapai Indian Reservation, Arizona; Jicarilla Apache Nation, New Mexico; Kaibab Band of Paiute Indians of the Kaibab Indian Reservation, Arizona; Mescalero Apache Tribe of the Mescalero Reservation, New Mexico; Navajo Nation, Arizona, New Mexico & Utah; San Carlos Apache Tribe of the San Carlos Reservation, Arizona; San Juan Southern Paiute Tribe of Arizona; Tonto Apache Tribe of Arizona; White Mountain Apache Tribe of the Fort Apache Reservation, Arizona; Yavapai-Apache Nation of the Camp Verde Indian Reservation, Arizona; Yavapai-Prescott Tribe of the Yavapai Reservation, Arizona; and Zuni Tribe of the Zuni Reservation, New Mexico, may proceed after that date if no additional requestors come forward.

Wupatki National Monument is responsible for notifying The Tribes that this notice has been published.

Dated: August 24, 2012.
Melanie O'Brien,
Acting Manager, National NAGPRA Program.

[FR Doc. 2012-23914 Filed 9-27-12; 8:45 am]

BILLING CODE 4312-50-P